DEPARTMENT OF THE INTERIOR

National Park Service

[NPS-WASO-NAGPRA-NPS0036248; PPWOCRADN0-PCU00RP14.R50000]

Notice of Inventory Completion: Central Washington University, Ellensburg, WA

AGENCY: National Park Service, Interior.

ACTION: Notice.

SUMMARY: In accordance with the Native American Graves Protection and Repatriation Act (NAGPRA), Central Washington University has completed an inventory of human remains and has determined that there is a cultural affiliation between the human remains and Indian Tribes or Native Hawaiian organizations in this notice. The human remains were removed from Klickitat County, WA.

DATES: Repatriation of the human remains in this notice may occur on or after August 28, 2023.

ADDRESSES: Lourdes Henebry-DeLeon, Department of Anthropology and Museum Studies, Central Washington University, 400 University Way, Ellensburg, WA 98926-7544, telephone (509) 963-2671, email Lourdes.Henebry-DeLeon@cwu.edu.

SUPPLEMENTARY INFORMATION: This notice is published as part of the National Park Service's administrative responsibilities under NAGPRA. The determinations in this notice are the sole responsibility of Central Washington University. The National Park Service is not responsible for the determinations in this notice. Additional information on the determinations in this notice, including the results of consultation, can be found in the inventory or related records held by Central Washington University.

Description

All the human remains listed below were removed from Klickitat County, WA, sometime between 1890 and 1940, by private collectors. In 1999, unknown individuals donated the human remains to Central Washington University, where they were assigned accession number 1999.0.1.9 and catalog number 26.

Human remains representing, at minimum, six individuals were removed from the Spedis site in the Spedis Valley. No associated funerary objects are present.

Human remains representing, at minimum, three individuals were removed from Grand Dalles. No associated funerary objects are present.

Human remains representing, at minimum, two individuals were removed from the town of Klickitat. No associated funerary objects are present.

Human remains representing, at minimum, one individual were removed from the Fountain Bar Site (45-KL-18) near Rock Creek. No associated funerary objects are present.

Human remains representing, at minimum, two individuals were removed from the town of Satus. No associated funerary objects are present.

Human remains representing, at minimum, 15 individuals were removed from the Satus Creek area near the town of Satus. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, historical, and expert opinion.

Determinations

Pursuant to NAGPRA and its implementing regulations, and after consultation with the appropriate Indian Tribes and Native Hawaiian organizations, Central Washington University has determined that:

• The human remains described in this notice represent the physical remains of 29 individuals of Native American ancestry.

• There is a relationship of shared group identity that can be reasonably traced between the human remains described in this notice and the Confederated Tribes and Bands of the Yakama Nation.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after August 28, 2023. If competing requests for repatriation are received, Central Washington University must determine the most appropriate requestor prior to repatriation. Requests for joint repatriation of the human remains are considered a single request and not competing requests. Central Washington University is responsible for sending a copy of this notice to the Indian Tribe identified in this notice.

Authority: Native American Graves Protection and Repatriation Act, 25 U.S.C. 3003, and the implementing regulations, 43 CFR 10.9, 10.10, and 10.14.

Dated: July 19, 2023.
Melanie O'Brien,
Manager, National NAGPRA Program.

[FR Doc. 2023-16061 Filed 7-27-23; 8:45 am]

BILLING CODE 4312-52-P